DEPARTMENT OF THE INTERIOR

Bureau of Reclamation

[14XR0680A1 RX.R0336900.0019100 RR01115000]

Yakima River Basin Conservation Advisory Group; Yakima River Basin Water Enhancement Project, Yakima, Washington

AGENCY: Bureau of Reclamation, Interior.

ACTION: Notice of public meeting.

SUMMARY: As required by the Federal Advisory Committee Act, the Yakima River Basin Conservation Advisory Group, Yakima River Basin Water Enhancement Project, established by the Secretary of the Interior, will hold a public meeting. The Yakima River Basin Conservation Advisory Group is a Federal advisory committee that provides technical advice and counsel to the Secretary of the Interior and Washington State on the structure, implementation, and oversight of the Yakima River Basin Water Conservation Program.

DATES: The meeting will be held on Wednesday, March 5, 2014, from 1:00 p.m. to 4:00 p.m.

ADDRESSES: The meeting will be held at the Bureau of Reclamation, Yakima Field Office, 1917 Marsh Road, Yakima, Washington.

FOR FURTHER INFORMATION CONTACT: Timothy McCoy, Manager, Yakima River Basin Water Enhancement Project, 1917 Marsh Road, Yakima, Washington 98901; (509) 575-5848, extension 209; facsimile (509) 454-5612; email at tmccoy@usbr.gov.

SUPPLEMENTARY INFORMATION: The Yakima River Basin Conservation Advisory Group (CAG) provides recommendations to the Secretary and the State on the structure and implementation of the basin conservation program; with that the group provides recommendations on rules, regulations, and administration to facilitate the voluntary sale and lease of water. The CAG provides oversight to the Yakima River Basin Conservation Plan, and provides an annual review of the implementation of the Water Conservation Program, including the applicable water conservation guidelines of the Secretary used by participating entities in preparing their individual water conservation plan.

Agenda: The primary purpose of the meeting is to update CAG members of the status of ongoing and future projects being funded with Yakima River Basin Water Enhancement Project funds. The CAG will also review the options of using the acquired habitat lands to mitigate the impacts that occur from the planned conservation measures and will develop recommendations at the completion of their review. This meeting is open to the public.

Public Disclosure of Comments: Before including your address, phone number, email address, or other personal identifying information in your comment, you should be aware that your entire comment—including your personal identifying information—may be made publicly available at any time.

While you can ask us in your comment to withhold your personal identifying information from public review, we cannot guarantee that we will be able to do so.

Dated: January 16, 2014.
Timothy McCoy,
Program Manager, Pacific Northwest Region.

[FR Doc. 2014-03247 Filed 2-12-14; 8:45 am]

BILLING CODE 4310-MN-P